ENVIRONMENTAL PROTECTION AGENCY

[EPA-HQ-OAR-2004-0489; FRL 9515-4]

Agency Information Collection Activities; Submission to OMB for Review and Approval; Comment Request; Air Emissions Reporting Requirements (Renewal)

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before April 26, 2012.

ADDRESSES: Submit your comments, referencing Docket ID No. EPA-HQ-OAR-2004-0489, to (1) EPA online using www.regulations.gov (our preferred method), by email to a-and-r-docket@epa.gov, or by mail to: EPA Docket Center, Environmental Protection Agency, Mail Code 28221T, 1200 Pennsylvania Ave. NW., Washington, DC 20460, and (2) OMB by mail to: Office of Information and Regulatory Affairs, Office of Management and Budget (OMB), Attention: Desk Officer for EPA, 725 17th Street NW., Washington, DC 20503.

FOR FURTHER INFORMATION CONTACT: Kim D. Paylor, Office of Air Quality Planning and Standards, Air Quality Assessment Division, Mail Code C339-02, Environmental Protection Agency, 1200 Pennsylvania Ave. NW., Washington, DC 20460; telephone number: 919-541-5474; fax number: 919-541-0684; email address: paylor.kim@epa.gov.

SUPPLEMENTARY INFORMATION: EPA has submitted the following ICR to OMB for review and approval according to the procedures prescribed in 5 CFR 1320.12. On September 14, 2011 (76 FR 56750), EPA sought comments on this ICR pursuant to 5 CFR 1320.8(d). EPA received no comments. Any additional comments on this ICR should be submitted to EPA and OMB within 30 days of this notice.

EPA has established a public docket for this ICR under Docket ID No. EPA-HQ-OAR-2004-0489, which is available for online viewing at www.regulations.gov, or in person viewing at the Air and Radiation Docket and Information Center, EPA/DC, EPA West, Room 3334, 1301 Constitution Ave. NW., Washington, DC. The EPA/DC Public Reading Room is open from 8:30 a.m. to 4:30 p.m., Monday through Friday, excluding legal holidays. The telephone number for the Reading Room is 202-566-1744, and the telephone number for the Air and Radiation Docket is 202-566-1742.

Use EPA's electronic docket and comment system at www.regulations.gov, to submit or view public comments, access the index listing of the contents of the docket, and to access those documents in the docket that are available electronically. Once in the system, select “docket search,” then key in the docket ID number identified above. Please note that EPA's policy is that public comments, whether submitted electronically or in paper, will be made available for public viewing at www.regulations.gov as EPA receives them and without change, unless the comment contains copyrighted material, confidential business information (CBI), or other information whose public disclosure is restricted by statute. For further information about the electronic docket, go to www.regulations.gov.

Title: Air Emissions Reporting Requirements (Renewal).

ICR Numbers: EPA ICR No. 2170.04, OMB Control No. 2060-0580.

ICR Status: This ICR is scheduled to expire on April 30, 2012. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The United States Environmental Protection Agency (EPA) promulgated the Air Emissions Reporting Requirements (AERR) on December 17, 2008 (73 FR 76539). The AERR consolidated and streamlined previous requirements of several older rules for State, Territorial, and local air pollution control agencies to report air emissions to the EPA annually. The ICR is being submitted to renew EPA's authority to collect air emissions-related information from States and local agencies for the three-year cycle that will include emissions reporting for inventory years 2012, 2013, and 2014, which are due to be reported on December 31 of the year following each inventory year.

Under the final AERR ICR, 55 State and Territorial air quality agencies, including the District of Columbia (DC), and an estimated 49 local air quality agencies, must annually submit emissions data for point sources emitting specified levels of oxides of nitrogen (NOX), carbon monoxide (CO), sulfur dioxide (SO2), volatile organic compounds (VOCs), particulate matter less than or equal to 10 micrometers in diameter (PM10), particulate matter less than or equal to 2.5 micrometers in diameter (PM2.5), and ammonia (NH3).

Every 3 years, States are required to submit a point source inventory, as well as a statewide stationary nonpoint, onroad mobile, and nonroad mobile source inventory for all criteria pollutants and their precursors. The emissions data submitted for the annual and 3-year cycle inventories are used by EPA's Office of Air Quality Planning and Standards (OAQPS) to assist in developing ambient air quality emission standards, performing regional modeling, and preparing national trends assessments and other special analyses and reports.

Burden Statement: The annual public reporting and recordkeeping burden for this collection of information is estimated to average 656 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: State, territorial and local government air quality management programs.

Estimated Number of Respondents: 104.

Frequency of Response: Annually.

Estimated Total Annual Hour Burden: 68,192.

Estimated Total Annual Cost: $4,735,411, which includes $116,480 annualized capital and O&M costs.

Changes in the Estimates: There is an increase of 17,097 hours in the total estimated burden currently identified in the OMB Inventory of Approved ICR Burdens. This increase is due to calculation differences either in the incremental change estimates from the CERR (2060-0088) and NOX SIP Call (2060-0445) ICRs to the original AERR ICR approval or to the annualization of the burden hours for the 3-year reporting cycle in the original AERR ICR approval.

John Moses,
Director, Collection Strategies Division.

[FR Doc. 2012-7323 Filed 3-26-12; 8:45 am]

BILLING CODE 6560-50-P